DEPARTMENT OF HEALTH AND HUMAN SERVICES

National Institutes of Health

Prospective Grant of Exclusive License: Development of Instruments for Diagnostic and Surgical Applications Based on Spectroscopic and Hyperspectral Imaging Techniques

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in: U.S. Patent Application Serial No. 09/182,898, entitled “Multispectral/Hyperspectral Medical Instrument”, filed October 30, 1998; U.S. Patent Application Serial No. 09/389,342 entitled “Infrared Balloon Probe” filed September 2, 1999, and US Provisional Patent Application SN 60/142,068, entitled “Dual Modality Imaging Apparatus”, filed July 2, 1999, to HyperMed, Inc. having a place of business in Chestnut Hill, Massachusetts. The United States of America is an assignee to the patent rights of these inventions.

The contemplated exclusive license may be limited to the development of diagnostic instruments, devices, compositions and methods, to be used for diagnostics based on the spectral differentiation between healthy and unhealthy/damaged tissue.

DATES: Only written comments and/or applications for a license which are received by the NIH Office of Technology Transfer on or before July 3, 2000 will be considered.

ADDRESSES: Requests for a copy of the patent application, inquiries, comments and other materials relating to the contemplated license should be directed to: Uri Reichman, Ph.D., Technology Licensing Specialist, Office of Technology Transfer, National Institutes of Health, 6011 Executive Boulevard, Suite 325, Rockville, MD 20852-3804; Telephone: (301) 496-7056, ext. 240; Facsimile: (301) 402-0220; E-mail: reichmau@od.nih.gov. A signed Confidential Disclosure Agreement will be required to receive copies of the patent application.

SUPPLEMENTARY INFORMATION: The three patent applications describe medical imaging technologies and related instrumentation and their application for surgical “real time” diagnostics. The inventions are based on the difference of spectral images between normal and damaged (e.g. ischemic or cancerous) tissues due to chemical differences between them. Patent Application 09/182,898 describes a surgical and diagnostic camera, based on visible and near infrared hyperspectral imaging technique. This instrument can be used during heart surgery to distinguish between ischemic and normal tissues, or for cancer surgery applications to determine tumor margins during resective surgery. Patent Application 09/389,342 describes a device for use in the field of medical endoscopy. It is a fiber-optics imaging device based on a balloon probe that has been adapted to obtain spectroscopic information in the infrared spectral region. It can be used, for example, for the determination of the chemical composition of arterial plaques in situ. Patent application 60/142,068 describes a Dual Modality Imaging Apparatus and method comprising means of fusing thermal image and hyperspectral data. While the hyperspectral data provides information about tissue status and viability, thermal imaging provides information related to blood flow.

The prospective exclusive license will be royalty-bearing and will comply with the terms and conditions of 35 U.S.C. 209 and 37 CFR 404.7. The prospective exclusive license may be granted unless, within 90 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 522.

Dated: March 24, 2000.
Jack Spiege,
Director, Division of Technology, Development and Transfer, Office of Technology Transfer.

[FR Doc. 00-8105 Filed 3-31-00; 8:45 am]

BILLING CODE 4140-01-M